DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by April 17, 2003.

Title, Form Number, and OMB Number: Department of Defense (DoD) Request for Personnel Security Investigations; DD Form 1879; OMB Number 0704-0384.

Type of Request: Reinstatement.

Number of Respondents: 32,164.

Responses per Respondent: 1.

Annual Responses: 32,164.

Average Burden Per Response: 15 minutes.

Annual Burden Hours: 8,041.

Needs and Uses: This information collection is necessary to solicit minimal personal and investigative information that will become part of a security clearance investigation. The form is used to transmit requests for security clearance investigations for access to classified information or employment in sensitive positions. The DD Form 1879 will be used by DoD civilians and military personnel in DoD Component security offices and contractor facility security officers to request a Single Scope Background Investigation (SSBI), National Agency Check with Local Agency Checks and Credits (NACLC), SSBI Peridic Reinvestigation (PR) or Special Investigative Inquiry.

Affected Public: Individuals or Households; Business or Other For-Profit.

Frequency: On occasion.

Respondent's Obligation: Required to Obtain or Retain Benefits.

OMB Desk Officer: Ms. Jacqueline Zeiher.

Written comments and recommendations on the proposed information collection should be sent to Ms. Zeiher at the Office of Management and Budget, Desk Officer for DoD, Room 10235, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: March 10, 2003.
Patricia L. Toppings,
Alternate OSD Federal Register, Liaison Officer, Department of Defense.

[FR Doc. 03-6380 Filed 3-17-03; 8:45 am]

BILLING CODE 5001-08-M